DEPARTMENT OF HOMELAND SECURITY

Coast Guard

33 CFR Part 165

[Docket No. USCG-USCG-2022-0586]

Safety Zone; Fireworks Display; John H. Kerr Reservoir, Clarksville, VA

AGENCY: Coast Guard, DHS.

ACTION: Notification of enforcement of regulation.

SUMMARY: The Coast Guard will enforce a safety zone for the Virginia Lake Festival on July 16, 2022, Clarksville, VA, to provide for the safety of life on navigable waterways during this event. Coast Guard regulations for marine events within the Fifth Coast Guard District identifies the regulated area for this event. During the enforcement period, entry of vessels or persons into this zone is prohibited unless specifically authorized by the Captain of the Port Virginia.

DATES: The regulations in 33 CFR 165.506 will be enforced for the location identified as Item 12 in table 3 to paragraph (h)(3) from 9:30 p.m. until 10 p.m. on July 16, 2022.

FOR FURTHER INFORMATION CONTACT: If you have questions about this notification of enforcement, call or email LCDR Ashley Holm, Chief, Waterways Management Division, Sector Virginia, U.S. Coast Guard; telephone 757-668-5580 email Ashley.E.Holm@uscg.mil.

SUPPLEMENTARY INFORMATION: The Coast Guard will enforce the safety zone in 33 CFR 165.506 for the Virginia Lake Festival regulated area from 9:30 p.m. to 10 p.m. on July 16, 2022. This action is being taken to provide for the safety of life on navigable waterways during this event. Coast Guard regulations for safety zones within the Fifth Coast Guard District, § 165.506, specifies the location of the regulated area for the Virginia Lake Festival which encompasses portions of the John H. Kerr Reservoir. During the enforcement periods, entry of vessels or persons into this zone is prohibited unless specifically authorized by the Captain of the Port Virginia.

In addition to this notification of enforcement in the Federal Register, the Coast Guard plans to provide notification of this enforcement period via the Local Notice to Mariners and Broadcast Notice to Mariners.

Dated: July 6, 2022.
Jennifer A. Stockwell,
Captain, U.S. Coast Guard, Captain of the Port Virginia.

[FR Doc. 2022-14771 Filed 7-11-22; 8:45 am]

BILLING CODE 9110-04-P